DEPARTMENT OF TRANSPORTATION

National Highway Traffic Safety Administration

[Docket No. NHTSA-2022-0024; Notice 1]

ST Engineering Hackney, Inc., Receipt of Petition for Decision of Inconsequential Noncompliance

AGENCY: National Highway Traffic Safety Administration (NHTSA), Department of Transportation (DOT).

ACTION: Receipt of petition.

SUMMARY: ST Engineering Hackney, Inc., (STE Hackney), has determined that certain model year (MY) 2015-2022 Kidron Refrigerated Van trailers do not fully comply with Federal Motor Vehicle Safety Standard (FMVSS) No. 223, Rear Impact Guards. On January 28, 2022, STE Hackney filed an original noncompliance report and amended the report on February 28, 2022, April 16, 2024, and April 17, 2024. STE Hackney petitioned NHTSA on February 28, 2022, and amended the petition on April 16, 2024, for a decision that the subject noncompliance is inconsequential as it relates to motor vehicle safety. This document announces receipt of STE Hackney's petition.

DATES: Send comments on or before December 29, 2025.

ADDRESSES: Interested persons are invited to submit written data, views, and arguments on this petition. Comments must refer to the docket and notice number cited in the title of this notice and may be submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000 (65 FR 19477-78).

FOR FURTHER INFORMATION CONTACT: Corey Barlet, General Engineer, NHTSA, Office of Vehicle Safety Compliance, (202) 366-1119.

SUPPLEMENTARY INFORMATION:

I. Overview: STE Hackney determined that certain MY 2015-2022 Kidron Refrigerated Van trailers it manufactures do not fully comply with paragraph S5.3(a) of FMVSS No. 223, Rear Impact Guards (49 CFR 571.223).

On January 28, 2022, STE Hackney filed an original noncompliance report and amended the report on February 28, 2022, April 16, 2024, and April 17, 2024, pursuant to 49 CFR part 573, Defect and Noncompliance Responsibility and Reports. STE Hackney petitioned NHTSA on February 28, 2022, and amended its petition on April 16, 2024, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

This notice of receipt of STE Hackney's petition is published under 49 U.S.C. 30118 and 30120 and does not represent any agency decision or another exercise of judgment concerning the merits of the petition.

II. Vehicles Involved: Approximately 2,428 MY 2015-2022, Kidron Refrigerated Van trailers manufactured between November 3, 2014, and January 24, 2022, were reported by the manufacturer.

III. Noncompliance: STE Hackney explains that rear impact guard labels on the subject trailers did not include the guard manufacturer's address, as required by paragraph S5.3(a) of FMVSS No. 223.

IV. Rule Requirements: Paragraph S5.3(a) of FMVSS No. 223 includes the requirements relevant to this petition. Each guard is required to be permanently labeled with certain information including the guard manufacturer's address.

V. Summary of STE Hackney's Petition: The following views and arguments presented in this section, “V. Summary of STE Hackney's Petition,” are the views and arguments provided by STE Hackney. They have not been evaluated by the Agency and do not reflect the views of the Agency. STE Hackney describes the subject noncompliance and contends that the noncompliance is inconsequential as it relates to motor vehicle safety.

STE Hackney explains that the rear impact guard label on the subject trailers is placed in the correct position and contains the manufacturer's name, production date, and “DOT” certification marking as required by FMVSS No. 223 paragraph S5.3. While the manufacturer's address is not included on the rear impact guard label as required by S5.3(a) of FMVSS No. 223, STE Hackney says that the missing manufacturer's address can be found on the manufacturer's certification label that is affixed on every trailer that STE Hackney manufactures.

STE Hackney states that it “can certify that each vehicle was produced with compliant rear impact guard manufactured and installed by STE Hackney.” Furthermore, STE Hackney was contacted by a customer requesting replacement labels, and says that “in the long period that these units have been in service, they have only recently been given notice that the manufacturer address was omitted on the rear guard.”

STE Hackney concludes by stating its belief that the subject noncompliance is inconsequential as it relates to motor vehicle safety and its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that STE Hackney no longer controlled at the time it determined that the noncompliance existed. However, any decision on this petition does not relieve vehicle distributors and dealers of the prohibitions on the sale, offer for sale, or introduction or delivery for introduction into interstate commerce of the noncompliant vehicles under their control after STE Hackney notified them that the subject noncompliance existed.

(Authority: 49 U.S.C. 30118, 30120: delegations of authority at 49 CFR 1.95 and 501.8)

Otto G. Matheke III,
Director, Office of Vehicle Safety Compliance.

[FR Doc. 2025-21524 Filed 11-26-25; 8:45 am]

BILLING CODE 4910-59-P